ENVIRONMENTAL PROTECTION AGENCY

[OECA-2004-0007; FRL-7811-5]

Agency Information Collection Activities; Submission for OMB Review and Approval; Comment Request; NESHAP for Pesticide Active Ingredient Production (40 CFR Part 63, Subpart MMM) (Renewal), ICR Number 1807.03, OMB Number 2060-0370

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on October 31, 2004. Under OMB regulations, the Agency may continue to conduct or sponsor the collection of information while this submission is pending at OMB. This ICR describes the nature of the information collection and its estimated burden and cost.

DATES: Additional comments may be submitted on or before October 13, 2004.

ADDRESSES: Submit your comments, referencing docket ID number OECA-2004-0007, to (1) EPA online using EDOCKET (our preferred method), by e-mail to docket.oeca@epa.gov, or by mail to: Environmental Protection Agency, EPA Docket Center (EPA/DC), Enforcement and Compliance Docket and Information Center, EPA West, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Learia Williams, Compliance Assessment and Media Programs Division (Mail Code 2223A), Office of Compliance, Environmental Protection Agency, 1200 Pennsylvania Avenue, NW., Washington, DC 20460; telephone number: (202) 564-4113; fax number: (202) 564-0050; e-mail address: williams.learia@epa.gov.

SUPPLEMENTARY INFORMATION: EPA has submitted the following ICR to OMB for review and approval according to the procedures prescribed in 5 CFR 1320.12. On May 25, 2004 (69 FR 29718), EPA sought comments on this ICR pursuant to 5 CFR 1320.8(d). EPA received no comments.

EPA has established a public docket for this ICR under Docket ID No. OECA-2004-0007, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center is: (202) 566-1752. An electronic version of the public docket is available through EPA Dockets (EDOCKET) at http://www.epa.gov/edocket. Use EDOCKET to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NESHAP for Pesticide Active Ingredient Production (40 CFR part 63, subpart MMM) (Renewal).

Abstract: The Administrator has judged that the pollutants emitted from pesticide active ingredient (PAI) production facilities cause or contribute significantly to air pollution that may reasonably be anticipated to endanger public health. Owners or operators of PAI production facilities to which this regulation applies must choose one of the compliance options that is described in the rule or install and monitor a specific control system that reduces hazardous air pollutant (HAP) emissions to the compliance level. The respondents are subject to sections of subpart A of 40 CFR part 63 relating to the National Emission Standards for Hazardous Air Pollutants (NESHAP). These requirements include those associated with the applicability determination; the notification that the facility is subject to the rule; and the notification of testing (control device performance test and continuous monitoring system [CMS] performance evaluation); the results of performance testing and CMS performance evaluations; startup, shutdown, and malfunction report; and semiannual or quarterly summary reports and/or excess emissions and CMS performance reports. In addition to the requirements of subpart A, many respondents are required to submit precompliance plan and leak detection and repair (LDAR) reports; and plants that wish to implement emissions averaging provisions must submit an emission averaging plan.

Respondents electing to comply with the emission limit or emission reduction requirements for process vents, storage tanks, or wastewater must record the values of equipment operating parameters as specified in 40 CFR 63.1367 of the rule. If the owner or operator identifies any deviation resulting from any known cause for which no federally approved or promulgated exemption from an emission limitation or standard applies, the compliance report will also include all records that the source is required to maintain that pertain to the periods during which such deviation occurred, as well as the following: the magnitude of each deviation; the reason for each deviation; a description of the corrective action taken for each deviation, including action taken to minimize each deviation and action taken to prevent recurrence; and a copy of all quality assurance activities performed on any element of the monitoring protocol.

Owners or operators of PAI production facilities subject to the rule must maintain a copy of all monitored equipment operating parameter values that demonstrate compliance with the standards. Records and reports must be retained for a total of 5 years (2 years at the site; the remaining 3-year records may be retained off-site). The files may be maintained on a computer or floppy disks, or on microfiche.

Since many of the facilities potentially affected by the NESHAP standards are currently subject to new source performance standards (NSPS), the standards include an exemption from the NSPS for those sources. That exemption eliminates a duplication of information collection requirements.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average 60 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners and operators of pesticide active ingredient production facilities.

Estimated Number of Respondents: 88.

Frequency of Response: Initially, quarterly and semiannually.

Estimated Total Annual Hour Burden: 24,164 hours.

Estimated Total Annual Costs: $1,895,049, which includes $236,000 annualized capital/startup costs, $117,000 annual O&M costs, and $1,542,049 annual labor costs.

Changes in the Estimates: There is a decrease of 29,588 hours in the total estimated burden currently identified in the OMB Inventory of Approved ICR Burdens. The change in burden for the existing facilities is due primarily to an assumption that all sources are in compliance with the initial requirements of the rule since the previous ICR covers the first three years prior to the compliance date of the rule. Additionally, there is a decrease of $1,915,000 in the total estimated annualized cost currently identified in the OMB Inventory of Approved ICR Burdens. This is because the purchase of CMS monitors, which is a one time cost, are assumed to be purchased during the period of the active ICR.

Dated: September 1, 2004.
Oscar Morales,
Director, Collection Strategies Division.

[FR Doc. 04-20603 Filed 9-10-04; 8:45 am]

BILLING CODE 6560-50-P